DEPARTMENT OF TRANSPORTATION

Office of the Secretary

[Docket Nos. OST-95-179 and 95-623]

Disclosure of Code-Sharing Arrangements and Long-Term Wet Leases

AGENCY: Office of the Secretary, DOT

ACTION: Notice of Request for Extension of a Currently Approved Information Collection

SUMMARY: In accordance with the Paperwork Reduction Act of 1995 (44 U.S.C. 3501 et seq.), this notice announces and requests comments on the Department of Transportation's (Department or DOT) intention request extension of a previously approved collection that reflects DOT's current consumer notification rules and policies to ensure that consumers have pertinent information about airline code-sharing arrangements and long-term wet leases in domestic and international air transportation.

DATES: Comments on this notice should be received September 23, 2002.

ADDRESSES: Attention Competition and Policy Analysis Division (X-55), Office of Aviation Analysis, U.S. Department of Transportation, Room PL-401, Docket Nos. OST-95-179 and OST-95-623, 400 Seventh Street, SW., Washington, DC 20590. Three copies are requested but not required.

FOR FURTHER INFORMATION CONTACT: Jack Schmidt, Office of Aviation and International Economics, Office of the Assistant Secretary for Aviation and International Affairs, Office of the Secretary, U.S. Department of Transportation, 400 Seventh St., SW., Washington, DC 20590, (202) 366-5420.

SUPPLEMENTARY INFORMATION: Title: Disclosure of Code-sharing Arrangements and Long-term Wet Leases.

OMB Control Number: 2105-0537.

Type of request: Extension of a previously approved collection.

Affected Public: All U.S. air carriers, foreign air carriers, computer reservations systems (CRSs), travel agents doing business in the United States, and the traveling public.

Comments are invited on: (a) Whether this collection of information (third party notification) is necessary for the proper performance of the functions of the agency, including whether the information will have practical utility; (b) the accuracy of the agency's estimate of burden of the proposed collection of information; (c) ways to enhance the quality, utility, and clarity of the information to be collected; and (d) ways to minimize the burden of the collection of information on the respondents, including through the use of automated techniques or other forms of information technology.

Issued in Washington, DC, on August 19, 2002.
Michael Robinson,
Program Analyst.

[FR Doc. 02-21466 Filed 8-21-02; 8:45 am]

BILLING CODE 4910-62-P